FEDERAL COMMUNICATIONS COMMISSION

Information Collection(s) Being Submitted to the Office of Management and Budget (OMB) for Emergency Review and Approval

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 25, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission. To submit your PRA comments to the FCC by email send them to: PRA@fcc.gov.

FOR FURTHER INFORMATION CONTACT: Judith B. Herman, Office of Managing Director, FCC, at 202-418-0214.

SUPPLEMENTARY INFORMATION: The Federal Communications Commission (Commission) is seeking emergency approval from the Office of Management and Budget (OMB) for this revised information collection by September 25, 2013.

OMB Control Number: 3060-0600.

Title: Application to Participate in a FCC Auction.

Form Number: FCC Form 175.

Type of Review: Revision of a currently approved collection.

Respondents: Business or other for-profit entities, not-for-profit institutions, and state, local or tribal governments.

Estimated Number of Respondents and Responses: 500 per year (estimated average for 3 years for all respondents under the currently approved collection), with an estimated 350 of such respondents required to respond to the revised collection following its approval.

Estimated Time per Response: 90 minutes (estimated average time for respondents to report information requested on FCC Form 175 under the currently approved collection). The Commission estimates that the additional certification under the revised will not measurably increase the estimated average amount of time to complete FCC Form 175 across the range of respondents.

Frequency of Response: On occasion reporting requirements.

Obligation To Respond: Required to obtain or retain benefits. Statutory authority for the currently approved information collection is contained in sections 154(i) and 309(j)(5) of the Communications Act, as amended, 47 U.S.C. 4(i), 309(j)(5), and 1.2105, 1.2110, 1.2112 of the Commission's rules, 47 CFR 1.2105, 1.2110, 1.2112. Statutory authority for the revised information collection is contained in Section 6004 of Title VI of the Middle Class Tax Relief and Job Creation Act of 2012 (Pub. L. 112-96) (2012 Spectrum Act), 47 U.S.C. 1404.

Estimated Total Annual Burden: 750 hours.

Total Annual Costs: $0

Nature and Extent of Confidentiality: Information collected on FCC Form 175 is made available for public inspection, and the Commission is not requesting that respondents submit confidential information on FCC Form 175. Respondents seeking to have information collected on FCC Form 175 withheld from public inspection may request confidential treatment of such information pursuant to 0.459 of the Commission's rules, 47 CFR 0.459.

Privacy Act Impact Assessment: N/A.

Needs and Uses: The Commission is submitting this revised information collection to OMB under its emergency processing procedures. The Commission proposes to revise the currently approved information collection to include an additional certification that will implement Section 6004 of the 2012 Spectrum Act, 47 U.S.C. 1404. The Commission's auction rules and requirements are designed to ensure that the competitive bidding process is limited to serious qualified applicants, deter possible abuse of the bidding and licensing process, and enhance the use of competitive bidding to assign Commission licenses in furtherance of the public interest. The information collected on FCC Form 175 is used by the Commission to determine if an applicant is legally, technically, and financially qualified to participate in a Commission auction. Additionally, if an applicant applies for status as a particular type of auction participant pursuant to Commission rules, the Commission uses information collected on Form 175 to determine whether the applicant is eligible for the status requested. Commission staff reviews the information collected on FCC Form 175 for a particular auction as part of the pre-auction process, prior to the auction being held. Staff determines whether each applicant satisfies the Commission's requirements to participate in the auction and, if applicable, is eligible for the status as a particular type of auction participant it requested. The revised collection will enable the Commission to confirm that a potential auction participant meets the criteria set forth in Section 6004 of the 2012 Spectrum Act, 47 U.S.C. 1404, by requiring that applicant to certify on FCC Form 175, under penalty of perjury, that the applicant and all of the related individuals and entities required to be disclosed on its application are not person(s) who have been, for reasons of national security, barred by any agency of the Federal Government from bidding on a contract, participating in an auction or receiving a grant. The Commission plans to continue to use the FCC Form 175 for all upcoming spectrum auctions, including those required or authorized to be conducted pursuant to the 2012 Spectrum Act, collecting only the information necessary for each particular auction. Thus, the additional certification that is the subject of this revised collection will not be required for all auctions.

Federal Communications Commission.
Marlene H. Dortch,
Secretary.

[FR Doc. 2013-20873 Filed 8-23-13; 8:45 am]

BILLING CODE 6712-01-P